DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arkansas:
Pulaski (FEMA Docket No.: B-1916) | City of Maumelle (18-06-1862P) | The Honorable Michael Watson, Mayor, City of Maumelle, 550 Edgewood Drive, Suite 590, Maumelle, AR 72113 | City Hall, 550 Edgewood Drive, Suite 590, Maumelle, AR 72113 | June 11, 2019 | 050577
Pulaski (FEMA Docket No.: B-1916) | City of North Little Rock (18-06-1862P) | The Honorable Joe Smith, Mayor, City of North Little Rock, 300 Main Street, North Little Rock, AR 72119 | City Hall, 500 West 13th Street, North Little Rock, AR 72114 | June 11, 2019 | 050182
Colorado:
Adams (FEMA Docket No.: B-1916) | City of Thornton (18-08-1093P) | The Honorable Heidi Williams, Mayor, City of Thornton, 9500 Civic Center Drive, Thornton, CO 80229 | City Hall, 9500 Civic Center Drive, Thornton, CO 80229 | June 14, 2019 | 080007
Garfield (FEMA Docket No.: B-1917) | City of Glenwood Springs (19-08-0116P) | The Honorable Michael Gamba, Mayor, City of Glenwood Springs, 101 West 8th Street, Glenwood Springs, CO 81601 | Engineering Department, 101 West 8th Street, Glenwood Springs, CO 81601 | June 11, 2019 | 080071
Garfield (FEMA Docket No.: B-1917) | Unincorporated areas of Garfield County (19-08-0116P) | The Honorable John Martin, Chairman, Garfield County Board of Commissioners, 108 8th Street, Suite 101, Glenwood Springs, CO 81601 | Garfield County Courthouse, 109 8th Street, Glenwood Springs, CO 81601 | June 11, 2019 | 080205
Florida:
Bay (FEMA Docket No.: B-1917) | Unincorporated areas of Bay County (18-04-4009P) | The Honorable William Dozier, Chairman, Bay County Board of Commissioners, 840 West 11th Street, Panama City, FL 32401 | Bay County Planning and Zoning Department, 840 West 11th Street, Panama City, FL 32401 | June 11, 2019 | 120004
Lee (FEMA Docket No.: B-1916) | City of Bonita Springs (18-04-6716P) | The Honorable Peter Simmons, Mayor, City of Bonita Springs, 9101 Bonita Beach Road, Bonita Springs, FL 34135 | Community Development Department, 9220 Bonita Beach Road, Suite 111, Bonita Springs, FL 34135 | June 14, 2019 | 120680
Lee (FEMA Docket No.: B-1916) | Town of Fort Myers Beach (18-04-6934P) | The Honorable Tracy Gore, Mayor, Town of Fort Myers Beach, 2525 Estero Boulevard, Fort Myers Beach, FL 33931 | Community Development Department, 2525 Estero Boulevard, Fort Myers Beach, FL 33931 | June 13, 2019 | 120673
Manatee (FEMA Docket No.: B-1916) | City of Bradenton Beach (19-04-0245P) | The Honorable John Chappie, Mayor, City of Bradenton Beach, 107 Gulf Drive North, Bradenton Beach, FL 34217 | City Hall, 107 Gulf Drive North, Bradenton Beach, FL 34217 | June 11, 2019 | 125091
Monroe (FEMA Docket No.: B-1917) | City of Key West (19-04-0349P) | The Honorable Teri Johnston, Mayor, City of Key West, P.O. Box 1409, Key West, FL 33041 | City Hall, 1300 White Street, Key West, FL 33041 | June 12, 2019 | 120168
Monroe (FEMA Docket No.: B-1916) | Unincorporated areas of Monroe County (19-04-0251P) | The Honorable Sylvia Murphy, Mayor, Monroe County Board of Commissioners, 102050 Overseas Highway, Suite 234, Key Largo, FL 33037 | Monroe County Building Department, 2798 Overseas Highway, Suite 300, Marathon, FL 33050 | June 11, 2019 | 125129
Monroe (FEMA Docket No.: B-1917) | Unincorporated areas of Monroe County (19-04-0349P) | The Honorable Sylvia Murphy, Mayor, Monroe County Board of Commissioners, 102050 Overseas Highway, Suite 234, Key Largo, FL 33037 | Monroe County Building Department, 2798 Overseas Highway, Suite 300, Marathon, FL 33050 | June 12, 2019 | 125129
Orange (FEMA Docket No.: B-1917) | Unincorporated areas of Orange County (18-04-3127P) | The Honorable Teresa Jacobs, Mayor, Orange County, 201 South Rosalind Avenue, 5th Floor, Orlando, FL 32801 | Orange County Stormwater Division, 4200 South John Young Parkway, Orlando, FL 32839 | June 11, 2019 | 120179
Orange (FEMA Docket No.: B-1917) | Unincorporated areas of Orange County (19-04-0061P) | The Honorable Teresa Jacobs, Mayor, Orange County, 201 South Rosalind Avenue, 5th Floor, Orlando, FL 32801 | Orange County Stormwater Division, 4200 South John Young Parkway, Orlando, FL 32839 | June 12, 2019 | 120179
Palm Beach (FEMA Docket No.: B-1916) | Unincorporated areas of Palm Beach County (19-04-0277P) | The Honorable Mack Bernard, Mayor, Palm Beach County Council, 301 North Olive Avenue, Suite 1201, West Palm Beach, FL 33401 | Palm Beach County Building Division, 2300 North Jog Road, West Palm Beach, FL 33411 | June 14, 2019 | 120192
Polk (FEMA Docket No.: B-1916) | Unincorporated areas of Polk County (18-04-5489P) | The Honorable George Lindsey III, Chairman, Polk County Board of Commissioners, P.O. Box 9005, Drawer BC01, Bartow, FL 33831 | Polk County Land Development Division, 330 West Church Street, Bartow, FL 33830 | June 13, 2019 | 120261
Seminole (FEMA Docket No.: B-1916) | City of Longwood (18-04-6273P) | The Honorable Ben Paris Mayor, City of Longwood, 175 West Warren Avenue, Longwood, FL 32750 | Community Development Department, 174 West Church Avenue, Longwood, FL 32750 | June 14, 2019 | 120292
Maryland: Independent City (FEMA Docket No.: B-1916) | City of Baltimore (18-03-2013P) | The Honorable Catherine E. Pugh, Mayor, City of Baltimore, 100 North Holliday Street, Baltimore, MD 21202 | Planning Department, 417 East Fayette Street, 8th Floor, Baltimore, MD 21202 | June 11, 2019 | 240087
Massachusetts: Norfolk (FEMA Docket No.: B-1916) | Town of Dedham (18-01-1423P) | Mr. James Kern, Manager, Town of Dedham, 26 Bryant Street, Dedham, MA 02026 | Public Works Department, 55 River Street, Dedham, MA 02026 | June 13, 2019 | 250237
Montana:
Flathead (FEMA Docket No.: B-1916) | City of Whitefish (18-08-1047P) | The Honorable John Muhlfeld, Mayor, City of Whitefish, P.O. Box 158, Whitefish, MT 59937 | Planning and Building Department, 418 East 2nd Street, Whitefish, MT 59937 | June 13, 2019 | 300026
Flathead (FEMA Docket No.: B-1916) | Unincorporated areas of Flathead County (18-08-1047P) | The Honorable Philip Mitchell, Chairman, Flathead County Board of Commissioners, 800 South Main Street, Kalispell, MT 59901 | Flathead County Planning and Zoning Department, 40 11th Street West, Kalispell, MT 59901 | June 13, 2019 | 300023
North Carolina: Randolph (FEMA Docket No.: B-1916) | Unincorporated Areas of Randolph County (18-04-5146P) | The Honorable Darrell L. Frye, Chairman, Randolph County Board of Commissioners, 725 McDowell Road, Asheboro, NC 27205 | Randolph County Planning Department, 725 McDowell Road, Asheboro, NC 27205 | June 6, 2019 | 370195
Oklahoma:
Cleveland (FEMA Docket No.: B-1916) | City of Oklahoma City (18-06-3471P) | The Honorable David Holt, Mayor, City of Oklahoma City, 200 North Walker Avenue, 3rd Floor, Oklahoma City, OK 73102 | Public Works Department, 420 West Main Street, Suite 700, Oklahoma City, OK 73102 | June 13, 2019 | 405378
Payne (FEMA Docket No.: B-1924) | City of Stillwater (18-06-1552P) | The Honorable William Joyce, Mayor, City of Stillwater, 723 South Lewis Street, Stillwater, OK 74074 | Development Services Department, 723 South Lewis Street, Stillwater, OK 74074 | June 10, 2019 | 405380
Pennsylvania:
Bucks (FEMA Docket No.: B-1916) | Township of Doylestown (18-03-1689P) | The Honorable Barbara N. Lyons, Chairman, Township of Doylestown Board of Supervisors, 425 Wells Road, Doylestown, PA 18901 | Township Hall, 425 Wells Road, Doylestown, PA 18901 | June 14, 2019 | 420185
Bucks (FEMA Docket No.: B-1916) | Township of New Britain (18-03-1689P) | The Honorable A. James Scanzillo, Chairman, Township of New Britain Board of Supervisors, 207 Park Avenue, Chalfont, PA 18914 | Township Hall, 207 Park Avenue, Chalfont, PA 18914 | June 14, 2019 | 420987
Huntingdon (FEMA Docket No.: B-1917) | Township of Smithfield (18-03-2287P) | The Honorable Doyland Gladfelter, Chairman, Township of Smithfield Board of Supervisors, 202 South 13th Street, Suite 3, Huntingdon, PA 16652 | Code Enforcement Department, 202 South 23rd Street, Suite 3, Huntingdon, PA 16652 | June 11, 2019 | 420494
South Carolina: Horry (FEMA Docket No.: B-1916) | Unincorporated areas of Horry County (18-04-3918P) | The Honorable Mark Lazarus, Chairman, Horry County Council, P.O. Box 1236, Conway, SC 29528 | Horry County Department of Code Enforcement, 1301 2nd Avenue, Conway, SC 29526 | June 11, 2019 | 450104
South Dakota: Minnehaha (FEMA Docket No.: B-1917) | City of Sioux Falls (18-08-1114P) | The Honorable Paul TenHaken, Mayor, City of Sioux Falls, 224 West 9th Street, Sioux Falls, SD 57104 | Planning and Building Services Department, 224 West 9th Street, Sioux Falls, SD 57104 | June 14, 2019 | 460060
Texas:
Guadalupe (FEMA Docket No.: B-1916) | City of Cibolo (18-06-2757P) | The Honorable Stosh Boyle, Mayor, City of Cibolo, P.O. Box 826, Cibolo, TX 78108 | City Hall, 200 South Main Street, Cibolo, TX 78108 | June 14, 2019 | 480267
Hays (FEMA Docket No.: B-1917) | City of Kyle (18-06-1606P) | The Honorable Travis Mitchell, Mayor, City of Kyle, 100 West Center Street, Kyle, TX 78640 | Building Department, 100 West Center Street, Kyle, TX 78640 | May 16, 2019 | 481108
Hays (FEMA Docket No.: B-1917) | Unincorporated areas of Hays County (18-06-1606P) | The Honorable Debbie Ingalsbe, Acting Hays County Judge, 111 East San Antonio Street, Suite 300, San Marcos, TX 78666 | Hays County Development Services Department, 2171 Yarrington Road, Suite 100, Kyle, TX 78640 | May 16, 2019 | 480321
Montgomery (FEMA Docket No.: B-1916) | Unincorporated areas of Montgomery County (18-06-3313P) | The Honorable Craig B. Doyal, Montgomery County Judge, 501 North Thompson Street, Suite 401, Conroe, TX 77301 | Montgomery County Commissioners Office, 501 North Thompson Street, Suite 103, Conroe, TX 77301 | June 11, 2019 | 480483
Tarrant (FEMA Docket No.: B-1916) | City of Fort Worth (18-06-2392P) | The Honorable Betsy Price, Mayor, City of Fort Worth, 200 Texas Street, Fort Worth, TX 76102 | Transportation and Public Works Department, 200 Texas Street, Fort Worth, TX 76102 | June 13, 2019 | 480596
Tarrant (FEMA Docket No.: B-1916) | City of Fort Worth (18-06-3022P) | The Honorable Betsy Price, Mayor, City of Fort Worth, 200 Texas Street, Fort Worth, TX 76102 | Transportation and Public Works Department, 200 Texas Street, Fort Worth, TX 76102 | June 13, 2019 | 480596
Tarrant (FEMA Docket No.: B-1916) | City of Fort Worth (18-06-3342P) | The Honorable Betsy Price, Mayor, City of Forth Worth, 200 Texas Street, Fort Worth, TX 76102 | Transportation and Public Works Department, 200 Texas Street, Fort Worth, TX 76102 | June 13, 2019 | 480596
Utah:
Iron (FEMA Docket No.: B-1917) | City of Cedar City (18-08-0285P) | The Honorable Maile Wilson Edwards, Mayor, City of Cedar City, 10 North Main Street, Cedar City, UT 84720 | Engineering Department, 10 North Main Street, Cedar City, UT 84720 | June 13, 2019 | 490074
Iron (FEMA Docket No.: B-1904) | City of Cedar City (18-08-0328P) | The Honorable Maile Wilson, Mayor, City of Cedar City, 10 North Main Street, Cedar City, UT 84720 | City Hall, 10 North Main Street, Cedar City, UT 84720 | May 20, 2019 | 490074
Iron (FEMA Docket No.: B-1904) | Unincorporated areas of Iron County (18-08-0328P) | The Honorable Michael Bleak, Chairman, Iron County Board of Commissioners, 68 South 100 East, Parowan, UT 84761 | Iron County Engineering and Surveying Department, 68 South 100 East, Parowan, UT 84761 | May 20, 2019 | 490073
Salt Lake (FEMA Docket No.: B-1916) | City of Herriman (18-08-0560P) | The Honorable David Watts, Mayor, City of Herriman, 5355 West Herriman Main Street, Herriman, UT 84096 | City Hall, 13011 South Pioneer Street, Herriman, UT 84096 | June 10, 2019 | 490252
Salt Lake (FEMA Docket No.: B-1916) | Unincorporated areas of Salt Lake County (18-08-0560P) | The Honorable Ben McAdams, Mayor, Salt Lake County, 2001 South State Street, Suite N2-100, Salt Lake City, UT 84190 | Salt Lake County Public Works Department, 2001 South State Street, Suite N3-100, Salt Lake City, UT 84190 | June 10, 2019 | 490102

[FR Doc. 2019-15343 Filed 7-18-19; 8:45 am]

BILLING CODE 9110-12-P